NATIONAL AERONAUTICS AND SPACE ADMINISTRATION

48 CFR Parts 1815 and 1852

RIN 2700-AE27

NASA Federal Acquisition Regulation Supplement: Removal of Grant Handbook References (NFS Case 2016-N001)

AGENCY: National Aeronautics and Space Administration.

ACTION: Final rule.

SUMMARY: NASA is issuing a final rule amending the NASA Federal Acquisition Regulation Supplement (NFS) to remove references to NASA's Grant and Cooperative Agreement Handbook, NASA Procedural Requirements (NPR) 5800.1, NASA Grant and Cooperative Agreement Handbook, and Office of Management and Budget (OMB) Circulars A-21 for educational institutions and A-122 for nonprofit organizations.

DATES: Effective: July 25, 2016.

FOR FURTHER INFORMATION CONTACT: Andrew O'Rourke, telephone 202-358-4560.

SUPPLEMENTARY INFORMATION:

I. Background

NASA published a proposed rule in the Federal Register at 81 FR 13308 on March 14, 2016, to amend the NFS to remove references to NASA's Grant and Cooperative Agreement Handbook, NPR 5800.1, NASA Grant and Cooperative Agreement Handbook and Office of Management and Budget (OMB) Circulars A-21 for educational institutions and A-122 for nonprofit organizations.

II. Discussion and Analysis

No public comments were submitted in response to the proposed rule. The proposed rule has been converted to a final rule without change.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

A final regulatory flexibility analysis has been prepared consistent with the Regulatory Flexibility Act, 5 U.S.C. 601, et seq., and is summarized as follows:

NASA is issuing a final rule amending the NFS to remove references to the NASA Grant and Cooperative Agreement Handbook and NPR 5800.1, NASA Grant and Cooperative Agreement Handbook. No changes were made to the final rule. No public comments were received in response to the Initial Regulatory Flexibility Analysis in the proposed rule. Therefore, the proposed rule has been adopted as final. NASA does not expect this final rule to have a significant economic impact on a substantial number of small entities within the meaning of the Regulatory Flexibility Act, 5 U.S.C. 601 et seq., because it merely removes outdated and unnecessary grant and cooperative agreement references that should not be in the NFS. There are no new reporting requirements or recordkeeping requirements associated with this rule. In addition, there are no other alternatives that could further minimize the already negligible impact on businesses, small or large.

V. Paperwork Reduction Act

The rule does not contain any information collection requirements that require the approval of OMB under the Paperwork Reduction Act (44 U.S.C. chapter 35).

List of Subjects in 48 CFR Parts 1815 and 1852

Government procurement.

Manuel Quinones,
NASA FAR Supplement Manager.

Accordingly, 48 CFR parts 1815 and 1852 are amended as follows:

1. The authority citation for parts 1815 and 1852 continues to read as follows:

Authority: 51 U.S.C. 20113(a) and 48 CFR chapter 1.

PART 1815—CONTRACTING BY NEGOTIATION

2. Revise section 1815.602 to read as follows:

1815.602 Policy.

Renewal proposals, (i.e., those for the extension or augmentation of current contracts) are subject to the same FAR and NFS regulations, including the requirements of the Competition in Contracting Act, as are proposals for new contracts.

PART 1852—SOLICITATION PROVISIONS AND CONTRACT CLAUSES

3. Amend section 1852.235-72 by—

a. Removing from the provision heading “DEC 2005” and adding (JUL 2016) in its place; and

b. Revising paragraphs (a)(4) and (c)(8)(iii).

The revisions read as follows:

1852.235-72 Instructions for responding to NASA research announcements.

* * * * *

(a) * * *

(4) A contract, grant, cooperative agreement, or other agreement may be used to accomplish an effort funded in response to an NRA. NASA will determine the appropriate award instrument. Contracts resulting from NRAs are subject to the Federal Acquisition Regulation and the NASA FAR Supplement. A grant, cooperative agreement, or other agreement resulting from NRAs are subject to policies and procedures outlined in the Guidebook for Proposers Responding to a NASA Funding Announcement, 2 CFR part 1800, 14 CFR part 1274, or other agreement policy. Any proposal from a large business concern that may result in the award of a contract, which exceeds $5,000,000 and has subcontracting possibilities should include a small business subcontracting plan in accordance with the clause at FAR 52.219-9, Small Business Subcontracting Plan.

(Subcontract plans for contract awards below $5,000,000, will be negotiated after selection.)

* * * * *

(c) * * *

(8) * * *

(iii) Allowable costs are governed by FAR part 31 and the NASA FAR Supplement part 1831.

* * * * *

[FR Doc. 2016-14851 Filed 6-23-16; 8:45 am]

BILLING CODE 7510-13-P